FEDERAL ACCOUNTING STANDARDS ADVISORY BOARD

Notice of Agenda Hearing for October 2002

Board Action: Pursuant to the Federal Advisory Committee Act (Pub. L. 92-463), as amended, and the FASAB Rules of Procedure, as amended in October, 1999, notice is hereby given that the Federal Accounting Standards Advisory Board (FASAB) will hold an Agenda Hearing in conjunction with the October 2002 Board meeting. The Agenda Hearing will be on Wednesday, October 9, 2002, in Room 7C13 of the GAO Building.

The purpose of the meeting is to:

Obtain information from interested individuals, organizations, and groups about potential future projects

Any interested person may attend the meeting as an observer. Board discussion and reviews are open to the public. GAO Building security requires advance notice of your attendance. For the October meeting, please notify FASAB by October 8 of your planned attendance by calling 202-512-7350.

FOR FURTHER INFORMATION CONTACT: Wendy Comes, Executive Director, 441 G St., NW., Mail Stop 6K17V, Washington, DC 20548, or call (202) 512-7350.

Authority: Federal Advisory Committee Act. Pub. L. 92-463.

Dated: September 6, 2002.
Wendy M. Comes,
Executive Director.

[FR Doc. 02-23123 Filed 9-18-02; 8:45 am]

BILLING CODE 1610-01-M